DEPARTMENT OF ENERGY

Federal Energy Regulatory Commission

[Docket Nos. CP07-398-001 and CP07-401-000]

Gulf Crossing Pipeline Company, LLC and Gulf South Pipeline Company, L.P.; Notice of Availability of the Draft Environmental Impact Statement for the Gulf Crossing Project

November 2, 2007.

The staff of the Federal Energy Regulatory Commission (FERC or Commission) has prepared this Draft Environmental Impact Statement (EIS) for the natural gas pipeline facilities proposed by Gulf Crossing Pipeline Company, LLC (Gulf Crossing) and Gulf South Pipeline Company, L.P. (Gulf South) under the above-referenced dockets. Gulf Crossing and Gulf South's (the Companies) proposed Gulf Crossing Project (Project) would be located in various counties and parishes in Oklahoma, Texas, Louisiana, and Mississippi.

The Draft EIS was prepared to satisfy the requirements of the National Environmental Policy Act (NEPA). The FERC staff concludes that the proposed Project, with the appropriate mitigation measures as recommended, would have limited adverse environmental impact.

The U.S. Fish and Wildlife Service, the Louisiana Department of Wildlife and Fisheries, the Texas Parks and Wildlife Department, and Natural Resources Conservation Service are cooperating agencies for the development of this EIS. A cooperating agency has jurisdiction by law or special expertise with respect to any environmental impact involved with the proposal and is involved in the NEPA analysis.

The general purpose of the proposed Project is to facilitate the transport of up to 1.73 billion cubic feet per day of natural gas from production fields in eastern Texas and southern Oklahoma to Gulf Coast market hubs that would service the eastern United States.

The Draft EIS addresses the potential environmental effects of construction and operation of the facilities listed below.

Gulf Crossing proposes to construct and operate:

• Approximately 353.2 miles of 42-inch-diameter natural gas transmission pipeline extending east-southeast from Grayson County, Texas and Bryan County, Oklahoma to Madison Parish, Louisiana;

• Four new compressor stations: The Sherman, Paris, Mira, and Sterlington Compressor Stations located in Grayson and Lamar County, Texas and Caddo and Ouachita Parish, Louisiana, respectively, totaling 100,734 horsepower;

• Seven new metering and regulating stations; and

• Other appurtenant ancillary facilities including, mainline valves (MLV), pig launcher and receiver facilities.

Gulf South proposes to construct and operate:

• Approximately 17.8 miles of 42-inch-diameter pipeline loop extending southeast from Hinds County, Mississippi to Simpson County, Mississippi;

• Addition of 30,000 horsepower to its recently approved Harrisville Compressor Station; and

• Other appurtenant ancillary facilities including MLV, pig launcher and receiver facilities.

The Companies propose to have the facilities installed and operational by October 2008.

The Draft EIS has been placed in the public files of the FERC and is available for public inspection at: Federal Energy Regulatory Commission, Public Reference Room, 888 First Street NE., Room 2A, Washington, DC 20426, (202) 502-8371.

A limited number of copies of the Draft EIS are available from the Public Reference Room identified above. In addition, the Draft EIS has been mailed to affected landowners; various Federal, State, and local government agencies; elected officials; environmental and public interest groups; Native American tribes; local libraries and newspapers; intervenors; and other individuals that expressed an interest in the proposed Project.

Comment Procedures and Public Meetings

Any person wishing to comment on the Draft EIS may do so. Please carefully follow these instructions to ensure that your comments are received and properly recorded.

• Send an Original and two copies of your comments to: Kimberly D. Bose, Secretary, Federal Energy Regulatory Commission, 888 First Street, NE., Room 1A, Washington, DC 20002.

• Reference Docket Nos. CP07-398-001, and CP07-401-000.

• Label one copy of the comments for the attention of Gas Branch 3.

• Mail your comments so that they will be received in Washington, DC on or before December 24, 2007.

The Commission strongly encourages electronic filing of any comments, interventions or protests to this proceeding. See 18 CFR 385.2001(a)(1)(iii) and the instructions on the Commission's Web site at http://www.ferc.gov under the “e-Filing” link and the link to the User's guide. Before you can file comments you will need to create a free account, which can be created by clicking on “Login to File” and then “New User Account.” You will be asked to select the type of filing you are making. This filing is considered a “Comment on Filing.”

In lieu of sending written comments, you are invited to attend public comment meetings the FERC will conduct in the project area to receive comments on the Draft EIS. Date, time, and location of these meetings will be sent under a different cover. Interested groups and individuals are encouraged to attend and present oral comments on the Draft EIS. Transcripts of the meetings will be prepared.

After the comments are reviewed, and significant new issues are investigated, and modifications are made to the Draft EIS, a Final EIS will be published and distributed by the FERC staff. The Final EIS will contain the staff's responses to timely comments received on the Draft EIS.

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision. Anyone may intervene in this proceeding based on this Draft EIS. You must file your request to intervene as specified above.¹ You do not need intervenor status to have your comments considered.

¹ Interventions may also be filed electronically via the Internet in lieu of paper. See the previous discussion on filing comments electronically.

The Draft EIS has been placed in the public files of the FERC and is available for distribution and public inspection at: Federal Energy Regulatory Commission, Public Reference Room, 888 First Street, NE., Room 2A, Washington, DC 20426, (202) 208-1371.

CD-ROM copies of the EIS have been mailed to Federal, state and local agencies; public interest groups; individuals and affected landowners who requested a copy of the Draft EIS or provided comments during scoping; libraries and newspapers in the Project area; and parties to this proceeding. Hard copy versions of the Draft EIS were mailed to those specifically requesting them. A limited number of hard copies and CD-ROMs are available from the Public Reference Room identified above.

Additional information about the project is available from the Commission's Office of External Affairs, at 1-866-208-FERC (3372) or on the FERC Internet Web site (http://www.ferc.gov). Using the “eLibrary link,” select “General Search” and enter the project docket number excluding the last three digits (i.e., CP07-398) in the “Docket Number” field. Be sure you have selected an appropriate date range. For assistance, please contact FERC Online Support at FERCOnlineSupport@ferc.gov or toll free at 1-866-208-3676, or TTY (202) 502-8659. The eLibrary link on the FERC Internet Web site also provides access to the texts of formal documents issued by the Commission, such as orders, notices, and rule makings.

In addition, the Commission now offers a free service called eSubscription which allows you to keep track of all formal issuances and submittals in specific dockets. This can reduce the amount of time you spend researching proceedings by automatically providing you with notification of these filings, document summaries and direct links to these documents. To learn more about eSubscription and to sign-up for this service please go to http://www.ferc.gov/esubscribenow.htm.

Kimberly D. Bose,
Secretary.

[FR Doc. E7-22021 Filed 11-8-07; 8:45 am]

BILLING CODE 6717-01-P